DEPARTMENT OF DEFENSE

Department of the Navy

[Docket ID: USN-2019-HQ-0014]

Submission for OMB Review; Comment Request

AGENCY: Navy Personnel Command (PERS-13) Navy Casualty, Navy, DoD.

ACTION: 30-Day information collection notice.

SUMMARY: The Department of Defense has submitted to OMB for clearance the following proposal for collection of information under the provisions of the Paperwork Reduction Act.

DATES: Consideration will be given to all comments received by December 16, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION: Title; Associated Form; and OMB Number: Collection of Personal Information for Casualty Benefits; OPNAV Form 1770/1,”Consent to Release Personal Information”; OPNAV Form 1770/2, “Next of Kin Travel Request”; OPNAV Form 1770/3, “Next of Kin Identification”; OMB Control Number 0703-XXXX.

OPNAV 1770/1

Annual Burden Hours: 300.

Number of Respondents: 600.

Responses per Respondent: 1.

Annual Responses: 600.

Average Burden per Response: 30 minutes.

Frequency: As required.

OPNAV 1770/2

Annual Burden Hours: 400.

Number of Respondents: 800.

Responses per Respondent: 1.

Annual Responses: 800.

Average Burden per Response: 30 minutes.

Frequency: As required.

OPNAV 1770/3

Annual Burden Hours: 600.

Number of Respondents: 600.

Responses per Respondent: 1.

Annual Responses: 600.

Average Burden per Response: 1 hour.

Frequency: As required.

Total Number of Respondents: 800 (600 will complete all three forms, 200 more will complete form 1770/2).

Total Number of Annual Responses: 800.

Total Respondent Burden Hours: 1,300.

Needs and Uses: The information is collected from the next of kin (NOK) and other beneficiaries following the death of a Navy Sailor. Basic contact information is passed to members of Congress and the White House (when consent is granted) for use in condolence activity. This and additional information collected is necessary to review, certify, and process payment of benefits awarded to designated NOK and other beneficiaries following the death. The form gathers data necessary to facilitate direct payment of benefits through the Defense Finance and Accounting Agency (DFAS), arrange travel to memorial and funeral services through the Defense Travel System (DTS), and to process travel claims submitted post-travel through DTS to DFAS. Data on the form is used solely for these functions.

Affected Public: Individuals or households.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: November 8, 2019.
Aaron T. Siegel,
Alternate OSD Federal Register Liaison Officer, Department of Defense.

[FR Doc. 2019-24779 Filed 11-14-19; 8:45 am]

BILLING CODE 5001-06-P